DEPARTMENT OF COMMERCE

International Trade Administration

[A-428-844]

Carbon and Alloy Steel Cut-to-Length Plate From the Federal Republic of Germany: Preliminary Results and Partial Rescission of the Antidumping Duty Administrative Review; 2016-2018

AGENCY: Enforcement and Compliance, International Trade Administration, Department of Commerce.

SUMMARY: The Department of Commerce (Commerce) preliminary determines that sales of certain carbon and alloy steel cut-to-length plate (CTL plate) from the Federal Republic of Germany (Germany) were made at less than normal value during the period of review (POR), November 14, 2016, through April 30, 2018. We invite interested parties to comment on these preliminary results.

DATES: Applicable February 27, 2019.

FOR FURTHER INFORMATION CONTACT: David Goldberger or Ross Belliveau, AD/CVD Operations, Office II, Enforcement and Compliance, International Trade Administration, U.S. Department of Commerce, 1401 Constitution Avenue NW, Washington, DC 20230; telephone: (202) 482-4136 or (202) 482-4952, respectively.

SUPPLEMENTARY INFORMATION:

Scope of the Order

The products covered by the order are certain carbon and alloy steel hot-rolled or forged flat plate products not in coils, whether or not painted, varnished, or coated with plastics or other non-metallic substances from Germany. Products subject to the order are currently classified in the Harmonized Tariff Schedule of the United States (HTSUS) under item numbers: 7208.40.3030, 7208.40.3060, 7208.51.0030, 7208.51.0045, 7208.51.0060, 7208.52.0000, 7211.13.0000, 7211.14.0030, 7211.14.0045, 7225.40.1110, 7225.40.1180, 7225.40.3005, 7225.40.3050, 7226.20.0000, and 7226.91.5000. Although the HTSUS subheadings are provided for convenience and customs purposes, the written description of the merchandise subject to this scope is dispositive.¹

¹ For a full description of the scope of the order, see Memorandum entitled “Decision Memorandum for the Preliminary Results and Partial Rescission of the 2016-2018 Administrative Review of the Antidumping Duty Order on Certain Carbon and Alloy Steel Cut-to-Length Plate from the Federal Republic of Germany,” dated concurrently with, and hereby adopted by, this notice (Preliminary Decision Memorandum).

Methodology

Commerce is conducting this review in accordance with sections 751(a)(1)(B) and (2) of the Tariff Act of 1930, as amended (the Act). Pursuant to sections 776(a) and (b) of the Act, Commerce preliminarily relied upon the facts otherwise available with adverse inferences (AFA) to determine the margin for Ilsenburger Grobblech GmbH, Salzgitter Mannesmann Grobblech GmbH, Salzgitter Flachstahl GmbH, and Salzgitter Mannesmann International GmbH (collectively, Salzgitter), the sole remaining mandatory respondent selected for review, because Salzgitter did not respond to Commerce's questionnaire in this administrative review. For a complete explanation of the methodology and analysis underlying our preliminary application of AFA to Salzgitter, see the Preliminary Decision Memorandum. The Preliminary Decision Memorandum is a public document and is on file electronically via Enforcement and Compliance's Antidumping and Countervailing Duty Centralized Electronic Service System (ACCESS). ACCESS is available to registered users at https://access.trade.gov, and to all parties in the Central Records Unit, room B8024 of the main Department of Commerce building. In addition, a complete version of the Preliminary Decision Memorandum can be found at http://enforcement.trade.gov/frn/. The signed Preliminary Decision Memorandum and the electronic version of the Preliminary Decision Memorandum are identical in content. A list of the topics discussed in the Preliminary Decision Memorandum is attached as the Appendix to this notice.

Partial Rescission of Review

On October 22, 2018, the petitioners ² withdrew their review requests for the following companies: AG der Dillinger Hüttenwerke (Dillinger); Perficon Steel GmbH (Perficon); Reiner Brach GmbH & Co. KG (Reiner Brach); Rudolf Rafflenbeul Stahlwarenfabrik GmbH & Co (Rudolf Rafflenbeul); Tenova (TAKRAF GmbH Lauchhammer) (Tenova); ThyssenKrupp Steel Europe AG (ThyssenKrupp Steel); ThyssenKrupp Schulte GmbH (TyssenKrupp Schulte); UPC Universal Piping GmbH (UPC); and VETTER Umformtechnik GmbH (VETTER).³ In accordance with 19 CFR 351.213(d)(1), Commerce is rescinding this review, in part, with respect to the following companies: Dillinger, Perficon, Reiner Brach, Rudolf Rafflenbeul, Tenova, ThyssenKrupp Steel, ThyssenKrupp Schulte, UPC, and VETTER.

² Enterprises LLC and Nucor Corporation, domestic producers and certain of the petitioners in the underlying less-than-fair-value investigation (hereafter, the petitioners)

³ See Letter from the petitioners, “Carbon and Alloy Steel Cut-To-Length Plate from Germany Withdrawal of Request for Administrative Review, dated October 22, 2018. The petitioners also withdrew their review request for Ilsenburger Grobblech GmbH (ILG). However, this company is one of the Salzgitter entities and the petitioners specifically indicated their intent to continue the review with respect to Salzgitter. Accordingly, we are not rescinding the administrative review with respect to ILG.

Preliminary Results of the Review

As a result of this review, Commerce preliminarily determines that a dumping margin of 174.03 percent exists for Salzgitter for the period November 14, 2016, through April 30, 2018.

Disclosure

Normally, Commerce discloses to interested parties the calculations performed in connection with the preliminary results within five days of the date of publication of the notice of preliminary results in the Federal Register, in accordance with 19 CFR 351.224(b). However, there are no calculations to disclose in connection with these preliminary results because, in accordance with section 776 of the Act, Commerce preliminarily applied AFA to Salzgitter, the sole mandatory respondent, and Commerce has preliminarily determined as the AFA rate the highest dumping margin alleged in the Petition.⁴

⁴ See Memorandum, “Placement of Initiation Checklist on Review Record” (Checklist Memorandum), dated concurrently with this Notice. The Checklist Memorandum transmits the Initiation Checklist from the Less-Than-Fair-Value investigation, which includes information regarding the calculation of the margins alleged in the Petition.

Public Comment

Case briefs or other written comments may be submitted to the Assistant Secretary for Enforcement and Compliance no later than 30 days after the date of publication of this notice. Rebuttal briefs, limited to issues raised in case briefs, may be submitted no later than five days after the deadline date for case briefs.⁵ Pursuant to 19 CFR 351.309(c)(2) and (d)(2), parties who submit case briefs or rebuttal briefs in this administrative review are encouraged to submit with each argument: (1) A statement of the issue; (2) a brief summary of the argument; and (3) a table of authorities.

⁵ See 19 CFR 351.309; see also 19 CFR 351.303 (for general filing requirements).

Pursuant to 19 CFR 351.310(c), interested parties who wish to request a hearing must submit a written request to the Assistant Secretary for Enforcement and Compliance, U.S. Department of Commerce within 30 days after the date of publication of this notice. Requests should contain: (1) The party's name, address, and telephone number; (2) the number of participants; (3) whether any participant is a foreign national; and (4) a list of issues parties intend to discuss. Issues raised in the hearing will be limited to those raised in the respective case and rebuttal briefs. If a request for a hearing is made, Commerce intends to hold the hearing at the U.S. Department of Commerce, 1401 Constitution Avenue NW, Washington, DC 20230, at a time and date to be determined.⁶ Parties should confirm by telephone the date, time, and location of the hearing two days before the scheduled date.

⁶ See 19 CFR 351.310(c).

All submissions, with limited exceptions, must be filed electronically using ACCESS. An electronically filed document must be received successfully in its entirety by 5 p.m. Eastern Time (ET) on the respective due date. Documents excepted from the electronic submission requirements must be filed manually (i.e., in paper form) with the APO/Dockets Unit in Room 18022 and stamped with the date and time of receipt by 5 p.m. ET on the due date.

Commerce intends to issue the final results of this administrative review, including the results of its analysis of issues raised in any written briefs, not later than 120 days after the date of publication of this notice, unless the deadline is extended.⁷

⁷ See section 751(a)(3)(A) of the Act and 19 CFR 351.213(h).

Assessment Rates

Upon issuance of the final results, Commerce shall determine, and U.S. Customs and Border Protection (CBP) shall assess, antidumping duties on all appropriate entries covered by this review.⁸ The final results of this review shall be the basis for the assessment of antidumping duties on entries of merchandise covered by the final results of this review and for future deposits of estimated duties, where applicable.⁹ For the companies for which we are rescinding this review, antidumping duties shall be assessed at rates equal to the cash deposit of estimated antidumping duties required at the time of entry, or withdrawal from warehouse, for consumption, during the period November 14, 2016, through April 30, 2018, in accordance with 19 CFR 351.212(c)(1)(i). We intend to issue instructions to CBP 15 days after the publication date of the final results of this review.

⁸ See 19 CFR 351.212(b).

⁹ See section 751(a)(2)(C) of the Act.

Cash Deposit Requirements

The following cash deposit requirements will be effective for all shipments of the subject merchandise entered, or withdrawn from warehouse, for consumption on or after the publication date of the final results of this administrative review, as provided by section 751(a)(2)(C) of the Act: (1) The cash deposit rate for Salzgitter will be the rate established in the final results of this review; (2) for previously reviewed or investigated companies not participating in this review, the cash deposit rate will continue to be the company-specific rate published for the most recently-completed segment of this proceeding in which the company was reviewed; (3) if the exporter is not a firm covered in this review, a prior review, or the less-than-fair-value (LTFV) investigation, but the manufacturer is, the cash deposit rate will be the rate established for the most recently-completed segment of this proceeding for the producer of subject merchandise; and (4) the cash deposit rate for all other manufacturers or exporters will continue to be 21.04 percent, the “all others” rate established in the investigation.¹⁰ These deposit requirements, when imposed, shall remain in effect until further notice.

¹⁰ See Certain Carbon and Alloy Steel Cut-To-Length Plate from Austria, Belgium, France, the Federal Republic of Germany, Italy, Japan, the Republic of Korea, and Taiwan: Amended Final Affirmative Antidumping Determinations for France, the Federal Republic of Germany, the Republic of Korea and Taiwan, and Antidumping Duty Orders, 82 FR 24096 (May 25, 2017).

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

We are issuing and publishing these results in accordance with sections 751(a)(1) and 777(i)(1) of the Act, and 19 CFR 351.221(b)(4).

Dated: February 21, 2019.
Gary Taverman,
Deputy Assistant Secretary for Antidumping and Countervailing Duty Operations, performing the non-exclusive functions and duties of the Assistant Secretary for Enforcement and Compliance.

Appendix

List of Topics Discussed in the Preliminary Decision Memorandum

I. Summary

II. Background

III. Partial Rescission of Administrative Review

IV. Scope of the Order

V. Application of Facts Available and Adverse Inferences

A. Use of Facts Available

B. Application of Facts Available With an Adverse Inference

C. Selection and Corroboration of Adverse Facts Available Rate

VI. Conclusion

[FR Doc. 2019-03422 Filed 2-26-19; 8:45 am]

BILLING CODE 3510-DS-P